DEPARTMENT OF TRANSPORTATION

National Highway Traffic Safety Administration

[Docket No. NHTSA-2015-0083; Notice 1]

Notice of Receipt of Petition for Decision That Nonconforming Model Year 2014 Mercedes-Benz SLK Class Passenger Cars Are Eligible for Importation

AGENCY: National Highway Traffic Safety Administration, DOT.

ACTION: Receipt of petition.

SUMMARY: This document announces receipt by the National Highway Traffic Safety Administration (NHTSA) of a petition for a decision that model year (MY) 2014 Mercedes-Benz SLK Class passenger cars (PC) that were not originally manufactured to comply with all applicable Federal motor vehicle safety standards (FMVSS), are eligible for importation into the United States because they are substantially similar to vehicles that were originally manufactured for sale in the United States and that were certified by their manufacturer as complying with the safety standards (the U.S.-certified version of the 2014 Mercedes-Benz SLK Class PC) and they are capable of being readily altered to conform to the standards.

DATES: The closing date for comments on the petition is March 17, 2016.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays.

• Fax: 202-493-2251.

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How to Read Comments submitted to the Docket: You may read the comments received by Docket Management at the address and times given above. You may also view the documents from the Internet at http://www.regulations.gov. Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: George Stevens, Office of Vehicle Safety Compliance, NHTSA (202-366-5308).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies LLC (JK) of Baltimore, Maryland (Registered Importer R-90-006) has petitioned NHTSA to decide whether nonconforming 2014 Mercedes-Benz SLK Class PCs are eligible for importation into the United States. The vehicles which JK believes are substantially similar are MY 2014 Mercedes-Benz SLK Class PCs sold in the United States and certified by their manufacturer as conforming to all applicable FMVSS.

The petitioner claims that it compared non-U.S. certified MY 2014 Mercedes-Benz SLK Class PCs to their U.S.-certified counterparts, and found the vehicles to be substantially similar with respect to compliance with most FMVSS.

JK submitted information with its petition intended to demonstrate that non-U.S. certified MY 2014 Mercedes-Benz SLK Class PCs, as originally manufactured, conform to many applicable FMVSS in the same manner as their U.S.-certified counterparts, or are capable of being readily altered to conform to those standards.

Specifically, the petitioner claims that the non U.S.-certified MY 2014 Mercedes-Benz SLK Class PCs, as originally manufactured, conform to: Standard Nos. 102 Transmission Shift Lever Sequence, Starter Interlock, and Transmission Braking Effect, 103 Windshield Defrosting and Defogging Systems, 104 Windshield Wiping and Washing Systems, 106 Brake Hoses, 113 Hood Latch System, 114 Theft Protection, 116 Motor Vehicle Brake Fluids, 118 Power-Operated Window, Partition, and Roof panel System, 124 Accelerator Control Systems, 126 Electronic Stability Control Systems, 135 Light Vehicle Brake Systems, 139 New Pneumatic Radial Tires for Light Vehicles, 201 Occupant Protection in Interior Impact, 202a Head Restraints, 204 Steering Control Rearward Displacement, 205 Glazing Materials, 206 Door Locks and Door Retention Components, 207 Seating Systems, 210 Seat Belt Assembly Anchorages, 212 Windshield Mounting, 214 Side Impact Protection, 216 Roof Crush Resistance, 219 Windshield Zone Intrusion, and 302 Flammability of Interior Materials.

The petitioner also contends that the subject non-U.S certified vehicles are capable of being readily altered to meet the following standards, in the manner indicated:

Standard No. 101 Controls and Displays: replacement of the original instrument cluster with the U.S.-model component and reprogramming the associated software as described in the petition.

Standard No. 108 Lamps, Reflective Devices and Associated Equipment: replacement of the front and rear turn signal and side marker lamps, headlamps, taillamps, stop lamps, backup lamps, and rear and side mounted reflex reflectors with U.S.-conforming components; reprogramming the vehicle software to activate the lamps such that they conform to the standard.

Standard No. 110 Tire Selection and Rims: installation of the required tire information placard.

Standard No. 111 Rearview Mirrors: inscription of the required warning statement on the face of the passenger side mirror, or replacement of that mirror with the U.S.-model component.

Standard No. 138 Tire Pressure Monitoring Systems: installation of U.S.-model pressure sensor, tire valve kit and tire pressure monitor module. The system must also be reprogrammed with the U.S.-model tire pressure loss warning code pack before reprograming the CAN E and changing the TPMS SA codes to “installed.”

Standard No. 208 Occupant Crash Protection: replacement of; passenger side seat cushion with the U.S.-model seat cushion and sensor mat set, passenger side electrical wiring harness, passenger side seat belt, instrument panel, glove box, wire harness for the dash board, and airbag control module. Installation of U.S.-model driver's and passenger's knee airbags and U.S.-model air bag warning labels is also necessary.

In addition, documentation required as part of the owner's manual or supplemental documentation must be provided by the RI.

After the new components are installed and wired the diagnostic programming/coding tool must be used to insure that the latest U.S.-model code packs are installed and operational in all applicable vehicle control modules, including the airbag control module.

Standard No. 209 Seat Belt Assemblies: replacement of the passenger seat belt assembly with U.S.-model components.

Standard No. 225 Child Restraint Anchorage Systems: inspection of all vehicles and replacement of any non U.S.-model child restraint anchorage system components with U.S.-model components (this may require seat replacement as part of modifications made to conform the vehicle to FMVSS No. 208) as necessary to conform to the requirements of the standard.

Standard No. 301 Fuel System Integrity: replacement of the following fuel system components with U.S.-model components as necessary to meet all applicable requirements of the standard: Evaporative system, fuel tank, fuel level unit with check valve (fuel tank pressure sensor), fuel filler cap, charcoal canister fuel shut off valve, vapor lines, wire harness for fuel tank pressure sensor and charcoal canister shut off valve.

After all replacements have been installed and wired the diagnostic programming/coding tool must be used to reprogram the ECU to select the ULE/LEV mode.

Standard No. 401 Interior Trunk Release: installation of all U.S.-model interior trunk release components.

The petitioner additionally states that a vehicle identification plate must be affixed to the vehicle near the left windshield pillar to meet the requirements of 49 CFR part 565.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A), (a)(1)(B), and (b)(1); 49 CFR 593.7; delegation of authority at 49 CFR 1.95 and 501.8.

Jeffrey M. Giuseppe,
Director, Office of Vehicle Safety Compliance.

[FR Doc. 2016-02968 Filed 2-12-16; 8:45 am]

BILLING CODE 4910-59-P